DEPARTMENT OF HEALTH AND HUMAN SERVICES

Health Resources and Services Administration

Advisory Commission on Childhood Vaccines

AGENCY: Health Resources and Services Administration (HRSA), Department of Health and Human Services (HHS).

ACTION: Notice.

SUMMARY: In accordance with the Federal Advisory Committee Act, this notice announces that the Secretary's Advisory Commission on Childhood Vaccines (ACCV) has scheduled a public meeting. Information about ACCV and the agenda for this meeting can be found on the ACCV website at https://www.hrsa.gov/advisory-committees/vaccines.

DATES: May 18, 2020. This meeting will begin at 9:00 a.m. ET.

ADDRESSES: This meeting will be held by Adobe Connect webinar and teleconference.

• Webinar link: https://hrsa.connectsolutions.com/accv/.

• Conference call-in number: 888-790-1734, passcode: 4177683.

FOR FURTHER INFORMATION CONTACT: Annie Herzog, Division of Injury Compensation Programs, HRSA, 5600 Fishers Lane, 08N186B, Rockville, Maryland 20857; 301-443-6634; or aherzog@HRSA.gov.

SUPPLEMENTARY INFORMATION: The ACCV provides advice and recommendations to the Secretary of HHS on policy, program development, and other issues related to implementation of the National Vaccine Injury Compensation Program (VICP) and concerning other matters as described under section 2119 of the Public Health Service Act (42 U.S.C. 300aa-19).

During the May 18, 2020, meeting, the ACCV will discuss a draft VICP Notice of Proposed Rulemaking. Agenda items are subject to change as priorities dictate. Refer to the ACCV website for any updated information concerning the meeting.

Members of the public will have the opportunity to provide comments. Public participants may submit written statements in advance of the scheduled meeting. Oral comments will be honored in the order they are requested and may be limited as time allows. Requests to submit a written statement or make oral comments to ACCV should be sent to Annie Herzog, ACCV Principal Staff Liaison, using the contact information above at least 5 business days prior to the meeting. Individuals who plan to attend and need special assistance or another reasonable accommodation should notify Annie Herzog at the address and phone number listed above at least 10 business days prior to the meeting.

Maria G. Button,
Director, Executive Secretariat.

[FR Doc. 2020-08883 Filed 4-24-20; 8:45 am]

BILLING CODE 4165-15-P